DEPARTMENT OF COMMERCE

International Trade Administration

[A-201-805]

Certain Circular Welded Non-Alloy Steel Pipe From Mexico: Final Results of Antidumping Duty Administrative Review and Final Determination of No Shipments; 2017-2018

AGENCY: Enforcement and Compliance, International Trade Administration, Department of Commerce.

SUMMARY: The Department of Commerce (Commerce) continues to find that Conduit, S.A. de C.V. (Conduit), Mueller Comercial de Mexico, S. de R.L. de C.V. (Mueller), and RYMCO made no shipments of subject merchandise during the period of review (POR), November 1, 2017 through October 31, 2018.

DATES: Applicable April 13, 2020.

FOR FURTHER INFORMATION CONTACT: Mark Flessner or Erin Kearney, AD/CVD Operations, Office VI, Enforcement and Compliance, International Trade Administration, Department of Commerce, 1401 Constitution Avenue NW, Washington, DC 20230; telephone: (202) 482-6312 or (202) 482-0167, respectively.

SUPPLEMENTARY INFORMATION:

Background

On September 17, 2019, Commerce published in the Federal Register the Preliminary Results of this administrative review.¹ In accordance with 19 CFR 351.309(c)(1)(ii), Commerce invited interested parties to comment on the Preliminary Results. On October 17, 2019, Independence Tube Corporation and Southland Tube, Incorporated (collectively, Domestic Interested Parties) submitted a case brief.² On October 22, 2019, Conduit and Mueller each submitted a rebuttal brief.³

¹ See Certain Circular Welded Non-Alloy Steel Pipe from Mexico: Preliminary Results of Antidumping Duty Administrative Review and Rescission of Review, in Part; 2017-2018, 84 FR 48907 (September 17, 2019) (Preliminary Results).

² See Domestic Interested Parties' Letter, “Certain Circular Welded Non-Alloy Steel Pipe from Mexico: Case Brief,” dated October 17, 2019.

³ See Conduit's Letter, “Circular Welded Non-Alloy Steel Pipe from Mexico: Rebuttal Brief,” dated October 22, 2019 (Conduit's Rebuttal Brief). Conduit's Rebuttal Brief was filed on behalf of Conduit and RYMCO. See Initiation of Antidumping and Countervailing Duty Administrative Reviews, 84 FR 2159 (February 6, 2019) (Initiation Notice). RYMCO, though listed in the Initiation Notice as a respondent, does not exist as a separate company and is merely Conduit's brand name; see also Mueller's Letter, “Certain Circular Welded Non-Alloy Steel Pipe from Mexico: Rebuttal Brief of Mueller Comercial de Mexico,” dated October 22, 2019.

These final results cover Conduit, Mueller, and RYMCO.⁴ Based on an analysis of the comments received, we have made no changes to the Preliminary Results. This administrative review was conducted in accordance with section 751(a) of the Tariff Act of 1930, as amended (the Act).

⁴ See Domestic Interested Parties' Letter, “Certain Circular Welded Non-Alloy Steel Pipe from Mexico: Partial Withdrawal of Request for Administrative Review,” dated May 7, 2019; see also Wheatland Tube's Letter, “Certain Circular Welded Non-Alloy Steel Pipes and Tubes from Mexico: Partial Withdrawal of Request for Administrative Review,” dated May 7, 2019.

Commerce exercised its discretion to toll all deadlines affected by the partial federal government closure from December 22, 2018, through the resumption of operations on January 29, 2019.⁵ If the new deadline falls on a non-business day, in accordance with Commerce's practice, the deadline will become the next business day. On February 11, 2020, we extended the deadline for these final results, until March 13, 2020.⁶ We extended the deadline of the final results a second time, until May 14, 2020.⁷

⁵ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁶ See Memorandum, “Certain Circular Welded Non-Alloy Steel Pipe from Mexico: Extension of Time Limit for Final Results of Antidumping Duty Administrative Review,” dated February 11, 2020.

⁷ See Memorandum, “Certain Circular Welded Non-Alloy Steel Pipe from Mexico: Extension of Time Limit for Final Results of Antidumping Duty Administrative Review,” dated March 11, 2020.

Scope of the Order ⁸

⁸ See Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (the Order).

The merchandise under review is certain circular welded non-alloy steel pipes and tubes. The merchandise covered by the Order and subject to this review is currently classified in the Harmonized Tariff Schedule of the United States (HTSUS) at subheadings: 7306.30.10.00, 7306.30.50.25, 7306.30.50.32, 7306.30.50.40, 7306.30.50.55, 7306.30.50.85, and 7306.30.50.90. While HTSUS subheadings are provided for convenience and customs purposes, the written description of the scope of this Order is dispositive. A full description of the scope of the Order is contained in the Issues and Decision Memorandum.⁹

⁹ See Memorandum, “Issues and Decisions Memorandum for the Final Results of the Antidumping Duty Administrative Review: Certain Circular Welded Non-Alloy Steel Pipe from Mexico; 2017-2018,” dated concurrently with this notice (Issues and Decisions Memorandum).

Analysis of Comments Received

All issues raised in the case and rebuttal briefs filed by parties in this review are addressed in the Issues and Decision Memorandum. A list of the issues which parties raised, and to which we respond in the Issues and Decision Memorandum, follows in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed Issues and Decision Memorandum and the electronic version of the Issues and Decision Memorandum are identical in content.

Changes Since the Preliminary Results

Based on our analysis of the comments received, and for the reasons explained in the Issues and Decision Memorandum, Commerce made no changes to the Preliminary Results.

Final Determination of No Shipments

Prior to the issuance of the questionnaire, Conduit reported that it made no sales of subject merchandise during the POR.¹⁰ On May 8, 2019, we placed the U.S. Customs and Border Protection (CBP) port inquiry instructions on the record that we sent to CBP regarding each company that submitted a statement of no shipments. We received no information from CBP contrary to the statements of no shipments from the companies contained in the attachments to the CBP Information Memorandum.¹¹

¹⁰ See Conduit's Letter, “Circular Welded Non-Alloy Steel Pipe from Mexico: Response to Comments on Notice of No Sales and Confirmation of No Sales, dated April 19, 2019. This statement included RYMCO.

¹¹ The port inquiries were for: Conduit, ITISA, Lamina y Placa, Mach 1 Aero, Mach 1 Global, Regiopytsa, Tubacero, and TUMEX.

On June 28, 2019, we received a certification of no shipments of subject merchandise from Mueller, which contained documentation in support of its contention that it had no prior knowledge of the entry of products it had sold into the United States.¹² Based on this evidence, we preliminarily determined that Mueller made no shipments of subject merchandise into the United States during the POR.¹³

¹² See Mueller's Letter, “Certain Circular Welded Non-Alloy Steel Pipe from Mexico: Mueller Certification of No Shipments,” dated June 28, 2019.

¹³ See Preliminary Results.

On July 8, 2019, we received a certification of no shipments of subject merchandise from Conduit and RYMCO which contained documentation supporting their contentions that they had no prior knowledge of subject merchandise exported to the United States during the POR, and that the products listed in the CBP data were not subject merchandise.¹⁴ Based on this evidence, we preliminarily determined that Conduit and RYMCO made no shipments of subject merchandise into the United States during the POR.¹⁵

¹⁴ See Conduit/RYMCO's Letter, “Certain Circular Welded Non-Alloy Steel Pipe from Mexico: Conduit/RYMCO Response to Department Questionnaire—Statement of No Sales of Subject Merchandise,” dated July 8, 2019.

¹⁵ See Preliminary Results, 84 FR at 48908.

For the reasons explained in the Issues and Decision Memorandum, we continue to determine for these final results that Conduit, Mueller, and RYMCO made no shipments of subject merchandise during the POR.

Assessment

Commerce shall determine and U.S. Customs and Border Protection (CBP) shall assess antidumping duties on all appropriate entries. Because Commerce determined that Conduit, Mueller, and RYMCO had no shipments of the subject merchandise, any suspended entries that entered under those companies' case numbers (i.e., at those companies' rates) will be liquidated at the all-others rate effective during the POR, consistent with Commerce's practice.¹⁶ We intend to issue assessment instructions directly to CBP 41 days after publication of the final results of this review.

¹⁶ For a full discussion of this clarification, see Antidumping and Countervailing Duty Proceedings: Assessment of Antidumping Duties, 68 FR 23954 (May 6, 2003).

Cash Deposit Requirements

The following deposit requirements for estimated antidumping duties will be effective upon publication of the notice of these final results of review for all shipments of circular welded non-alloy steel pipe from Mexico entered, or withdrawn from warehouse, for consumption on or after the date of publication as provided by section 751(a)(2) of the Act: (1) The cash deposit rate for Conduit, Mueller, and RYMCO will continue to be the company-specific rate published for the most recent period; (2) for merchandise exported by producers or exporters not covered in this review but covered in a prior segment of the proceeding, the cash deposit rate will continue to be the company-specific rate published for the most recent period; (3) if the exporter is not a firm covered in this review, a prior review, or the original investigation, but the producer is, then the cash deposit rate will be the rate established for the most recent period for the producer of the merchandise; (4) the cash deposit rate for all other producers or exporters will continue to be 32.62 percent, the all-others rate established in the LTFV investigation.¹⁷ These cash deposit requirements, when imposed, shall remain in effect until further notice.

¹⁷ See Final Determination of Sales at Less Than Fair Value: Circular Welded Non-Alloy Steel Pipe from Mexico, 57 FR 42953 (September 17, 1992); see also the Order.

Notification to Importers

This notice serves as a final reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties occurred and the subsequent assessment of doubled antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing notice of these final results in accordance with sections 751(a)(1) and 777(i)(1) of the Act and 19 CFR 351.213(h).

Dated: April 7, 2020
Jeffrey I. Kessler,
Assistant Secretary for Enforcement and Compliance.

Appendix—List of Topics Discussed in the Issues and Decision Memorandum

I. Summary

II. Background

III. Scope of the Order

IV. Discussion of the Issues

Comment 1: No-Shipment Statements in Lieu of Questionnaire Response

Comment 2: Adequacy of Support for Conduit's No Shipment Statement

Comment 3: Application of Adverse Facts Available to Conduit

Comment 4: Adequacy of Support for Mueller's No Shipment Statement

Comment 5: Application of Adverse Facts Available to Mueller

V. Recommendation

[FR Doc. 2020-07719 Filed 4-10-20; 8:45 am]

BILLING CODE 3510-DS-P